SECURITIES AND EXCHANGE COMMISSION

Sunshine Act Meeting

Federal Register citation of previous announcement: 72 FR 69258, December 7, 2007.

Status: Open Meeting.

Place: 100 F Street, NW., Washington, DC.

Date and time of previously announced meeting: Tuesday, December 11, 2007.

Change in the meeting: Deletion of an Item.

The following item was not considered during the Open Meeting on Tuesday, December 11, 2007:

Whether to approve the 2008 budget of the Public Company Accounting Oversight Board and will consider the related annual accounting support fee for the Board under Section 109 of the Sarbanes-Oxley Act of 2002.

At times, changes in Commission priorities require alterations in the scheduling of meeting items. For further information and to ascertain what, if any, matters have been added, deleted or postponed, please contact the Office of the Secretary at (202) 551-5400.

Dated: December 11, 2007.
Nancy M. Morris,
Secretary.

[FR Doc. E7-24213 Filed 12-12-07; 8:45 am]

BILLING CODE 8011-01-P